DEPARTMENT OF TRANSPORTATION

Federal Aviation Administration

14 CFR Part 71

[Docket No. FAA-2024-0368; Airspace Docket No. 23-AEA-16]

RIN 2120-AA66

Amendment of United States Area Navigation (RNAV) Route Q-97; Maine

AGENCY: Federal Aviation Administration (FAA), DOT.

ACTION: Final rule.

SUMMARY: This action amends the description of United States Area Navigation (RNAV) Route Q-97 by changing the name of the DLAAY, MD, waypoint (WP) to the BYSEL, MD, WP; changing the type of point for the SAWED, VA, and KALDA, VA, route points from being listed as a “Fix” to a “WP”; and correcting the geographic coordinates listed for the existing route points between the JEVED, GA, WP and the Presque Isle, ME (PQI), Very High Frequency Omnidirectional Range/Distance Measuring Equipment (VOR/DME) navigational aid. The FAA is taking these actions to match the FAA National Airspace System Resource (NASR) database information. These actions are editorial amendments only and do not alter the alignment, dimensions, or operating requirements of Q-97.

DATES: Effective date 0901 UTC, May 16, 2024. The Director of the Federal Register approves this incorporation by reference action under 1 CFR part 51, subject to the annual revision of FAA Order JO 7400.11 and publication of conforming amendments.

ADDRESSES: A copy of this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

On July 25, 2023, the FAA published a final rule for Docket No. FAA-2023-1276 in the Federal Register (88 FR 47762) amending Q-97 in support of the FAA's Northeast Corridor Atlantic Coast Routes (NEC ACR) Optimization Project. The amendment removed eight WPs and one Fix from the route because they did not denote a turn of one degree or more and moved the DLAAY, MD, WP along the route south of its previous position to deconflict New York arrival traffic from departures climbing southbound on RNAV Routes Q-97 and Q-167. The effective date of those amendments was October 5, 2023.

Subsequent to the amendment of Q-97, the FAA identified a safety related issue caused by the similar sounding WP names of the DLAAY WP and the ZJAAY, MD, WP that is located approximately 25 nautical miles from the DLAAY WP. The similar sounding WP names have caused confusion and frequent communication errors between air traffic control and flight crews. To eliminate the confusion and potential future communications errors, the FAA is changing the DLAAY WP name to the BYSEL, MD, WP and keeping the same geographic coordinates for the WP position.

Additionally, since amending Q-97 as noted above, the SAWED, VA, Fix and the KALDA, VA, Fix listed in the route description was changed from a Fix to a WP in the FAA NASR database. Accordingly, this action is updating the type of route point of the SAWED Fix and KALDA Fix in the Q-97 description from being listed as a “Fix” to a “WP”.

Finally, when the final rule for Docket No. FAA-2023-1276 was published, the geographic coordinates listed for the route points from the TOVAR, FL, WP to the WOPNR, OA, WP were inadvertently repeated for the route points extending from the JEVED, GA, WP to the Presque Isle, ME, VOR/DME. To correct this error, the FAA is correcting the geographic coordinates for the route points extending from the JEVED WP to the Presque Isle VOR/DME to match the FAA's NASR database information for each point.

Incorporation by Reference

United States Area Navigation Routes (Q-routes) are published in paragraph 2006 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending RNAV Route Q-97 by changing the name of the DLAAY, MD, WP to the BYSEL, MD, WP; changing the type of point of the SAWED, VA and KALDA, VA, route points from “Fix” to “WP”; and correcting the geographic coordinates listed for the existing route points from the JEVED, GA, WP to the Presque Isle, ME, VOR/DME.

These editorial amendments to the Q-97 description are made to ensure the route matches the FAA NASR database information and charted depiction of the route. The changed BYSEL WP name, the changed type of route point for the SAWED WP and KALDA WP, and the corrected geographic coordinates for the route points between the JEVED WP and the Presque Isle VOR/DME are listed in the Q-97 description in the regulatory text of this final rule.

Since this action merely involves editorial amendments in the Part 71 description of U.S. RNAV Route Q-97, and does not involve a change in the alignment, dimensions, or operating requirements of that route, notice and public procedure under 5 U.S.C. 553(b) are unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that these editorial amendment actions of RNAV route Q-97, to match the existing FAA NASR database information and charted route depiction, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2006 United States Area Navigation Routes.

* * * * *

Q-97 TOVAR, FL to Presque Isle, ME (PQI) [Amended]
TOVAR, FL | WP | (Lat. 26°33′05.09″ N, long. 080°02′19.75″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELLDE, NC | WP | (Lat. 34°24′14.57″ N, long. 078°41′50.60″ W)
PAACK, NC | WP | (Lat. 35°55′40.26″ N, long. 077°15′30.99″ W)
SAWED, VA | WP | (Lat. 37°32′00.73″ N, long. 075°51′29.10″ W)
KALDA, VA | WP | (Lat. 37°50′31.06″ N, long. 075°37′35.34″ W)
ZJAAY, MD | WP | (Lat. 38°03′09.95″ N, long. 075°26′34.27″ W)
BYSEL, MD | WP | (Lat. 38°15′02.70″ N, long. 075°16′52.87″ W)
Calverton, NY (CCC) | VOR/DME | (Lat. 40°55′46.63″ N, long. 072°47′55.89″ W)
NTMEG, CT | WP | (Lat. 41°16′30.75″ N, long. 072°28′52.08″ W)
VENTE, MA | WP | (Lat. 42°08′24.33″ N, long. 071°53′38.08″ W)
BLENO, NH | WP | (Lat. 42°54′55.00″ N, long. 071°04′43.37″ W)
FRIAR, ME | FIX | (Lat. 44°26′28.93″ N, long. 069°53′04.38″ W)
Presque Isle, ME (PQI) | VOR/DME | (Lat. 46°46′27.07″ N, long. 068°05′40.37″ W)

* * * * *

Issued in Washington, DC, on February 21, 2024.
Frank Lias,
Manager, Rules and Regulations Group.

[FR Doc. 2024-04031 Filed 2-27-24; 8:45 am]

BILLING CODE 4910-13-P